SMALL BUSINESS ADMINISTRATION

[Declaration of Disaster #3269; Amendment #5]

State of North Dakota

In accordance with information received from the Federal Emergency Management Agency, the above-numbered Declaration is hereby amended to expand the incident period for this disaster and to extend the deadline for filing applications for physical damage. The incident period is now established as beginning on April 5, 2000 and continuing through August 12, 2000. The deadline for filing applications for physical damage as a result of this disaster has been extended from August 26, 2000 to September 22, 2000.

All other information remains the same, i.e., the deadline for filing applications for economic injury is March 27, 2001.

(Catalog of Federal Domestic Assistance Program Nos. 59002 and 59008)
Dated: August 25, 2000.
James E. Rivera,
Acting Associate Administrator for Disaster Assistance.

[FR Doc. 00-23044 Filed 9-7-00; 8:45 am]

BILLING CODE 8025-01-P